CONSUMER PRODUCT SAFETY COMMISSION

[Docket No. CPSC-2018-0002]

Agency Information Collection Activities; Submission for OMB Review; Comment Request—CPSC Playground Surfaces Survey

AGENCY: Consumer Product Safety Commission.

ACTION: Notice.

SUMMARY: As required by the Paperwork Reduction Act of 1995, the Consumer Product Safety Commission (CPSC) announces that CPSC has submitted to the Office of Management and Budget (OMB) a new proposed collection of information by the agency on a survey that will assess children's potential exposure to playground surfaces, including recycled tire material. In the Federal Register of February 5, 2018 (83 FR 5073), CPSC published a notice announcing the agency's intent to seek approval of this collection of information. CPSC received several comments in response to that notice. After review and consideration of the comments, by publication of this notice, the Commission announces that CPSC has submitted to the OMB a request for approval of this collection of information.

DATES: Written comments on this request for approval of information collection requirements should be submitted by June 20, 2018.

ADDRESSES: Submit comments about this request by email: OIRA_submission@omb.eop.gov or fax: 202-395-6881.

Comments by mail should be sent to the Office of Information and Regulatory Affairs, Attn: OMB Desk Officer for the CPSC, Office of Management and Budget, Room 10235, 725 17th Street NW, Washington, DC 20503. In addition, written comments that are sent to OMB also should be submitted electronically at http://www.regulations.gov, under Docket No. CPSC-2018-0002.

FOR FURTHER INFORMATION CONTACT: Bretford Griffin, Consumer Product Safety Commission, 4330 East West Highway, Bethesda, MD 20814; (301) 504-7037, or by email to: bgriffin@cpsc.gov.

SUPPLEMENTARY INFORMATION:

A. Comments

On February 5, 2018, the CPSC published a notice in the Federal Register announcing the agency's intent to seek approval of a new collection of information on a CPSC Playground Surfaces Survey that will assess children's potential exposure to playground surfaces, including recycled tire material or “tire crumb” rubber (83 FR 5073). CPSC received five comments in response to that notice. Two commenters did not address the survey or any issues related to the survey. These commenters raised concerns about smart phones and bullying. One commenter supported the information collection. Two commenters requested that the CPSC analyze peer-reviewed research on the safety of rubber mulch, apply scientific methodologies to the research, and identify the constituents found in recycled rubber at acceptable risk levels.

The CPSC Playground Surfaces Survey will apply scientific survey methodologies to provide national estimates for the exposure of children less than 6 years old to playground surfaces, including, but not limited to, rubber mulch. The survey will not assess the safety of rubber mulch or whether children are at an increased health risk if they play on rubber mulch. Rather, the survey will help CPSC gain a better understanding of children's potential exposures to playground surfaces, including surfaces made from recycled tires, based on children's play behaviors on playgrounds. Potential exposures include skin contact, ingestion, and contact through open wounds.

The CPSC, the Environmental Protection Agency (EPA), and the Centers for Disease Control and Prevention (CDC)/Agency for Toxic Substances and Disease Registry (ATSDR) are working together on the Federal Research Action Plan on Recycled Tire Crumb Used on Playing Fields and Playgrounds (Plan). The four components of the Plan and the agencies' responsibilities are as follows:

• Literature Review/Gap Analysis (EPA and CDC/ATSDR)

• Tire Crumb Characterization (EPA and CDC/ATSDR)

• Exposure Characterization Study (EPA and CDC/ATSDR)

• Playground Surfaces Study (CPSC)

The EPA and the CDC/ATSDR are charged with assessing the existence, if any, of potentially hazardous chemicals or substances in recycled tire materials on athletic playing fields. Accordingly, EPA and CDC/ATSDR will be responsible for analyzing and considering the appropriate scientific methodologies and peer reviewed research in any hazard analysis. CPSC is tasked with research to establish the level of risk and the extent to which children may be exposed to potential hazard(s) related to recycled rubber on playgrounds. The CPSC Playground Surfaces Survey will help to inform CPSC staff's analysis regarding children's potential risk of exposure, and the extent of the exposure from playground surfaces derived from recycled tires, but the survey will not address any potential hazards.

Accordingly, after consideration of these comments, CPSC will request approval of this collection of information from OMB.

B. Survey

CPSC has contracted with the Fors Marsh Group, LLC (FMG) to design the CPSC Playground Surfaces Survey. SSRS, LLC will program and administer the survey. Trained interviewers will dial and conduct the survey using a computer-assisted telephone interview (CATI) system, in a secure location, to which only authorized personnel have access. Participants will be recruited by re-contacting respondents of the SSRS Omnibus. The SSRS Omnibus is a national, weekly, dual-frame bilingual RDD telephone survey designed to meet standards of quality associated with custom research studies. Each weekly wave of the SSRS Omnibus consists of 1,000 interviews; 600 interviews are obtained with respondents on their cell phones, and approximately 35 interviews are completed in Spanish. The topic of the surveys varies week to week. Interviewers will conduct follow-up re-contacts to target specific populations on certain issues. SSRS will use existing data from this sample source to pre-screen individuals in the target population (parents of children who are currently 0-5 years old). These targeted households will be re-contacted to administer the proposed survey. Participants will be re-screened at the beginning of the call to make sure that they meet the target criteria and to identify which subset of questions they will be given for the survey. Participation is voluntary and all responses will be kept confidential.

Each telephone interview will take approximately 20 minutes to complete. CPSC estimates the number of respondents to be 2,200. CPSC estimates the total annual burden hours for respondents to be 726 hours. The monetized hourly cost is $35.28, as defined by the average total hourly cost to employers for employee compensation for employees across all occupations as of June 2017, reported by the Bureau of Labor Statistics. Accordingly, CPSC estimates the total annual cost burden to all respondents to be $25,613 (726 hours × $35.28 = $25,613.28). The total cost to the federal government for the contract to design and conduct the survey issued to FMG under contract number CPSC-D-16-0002 is $243,593.

Alberta E. Mills,
Secretary, Consumer Product Safety Commission.

[FR Doc. 2018-10736 Filed 5-18-18; 8:45 am]

BILLING CODE P